DEPARTMENT OF STATE

[Public Notice 5343]

Bureau of Educational and Cultural Affairs (ECA) Request for Grant Proposals: Youth Leadership Program on Free Expression

Announcement Type: New Grant.

Funding Opportunity Number: ECA/PE/C/PY-06-22.

Catalog of Federal Domestic Assistance Number: 00.000.

Key Dates: It is anticipated that the grant period would run approximately from Summer 2006 to Summer 2007, with two iterations of the U.S. project taking place in Fall 2006 and Spring 2007. Each U.S. project will be four weeks in length.

Application Deadline: May 8, 2006.

Executive Summary: The Office of Citizen Exchanges, Youth Programs Division, of the Bureau of Educational and Cultural Affairs (ECA) announces an open competition for the Youth Leadership Program on Free Expression. Public and private non-profit organizations meeting the provisions described in Internal Revenue Code section 26 U.S.C. 501(c)(3) may submit proposals to recruit and select youth and adult participants overseas and to provide the participants with two U.S.-based exchange projects on the first amendment with a focus on free expression. The core of the Youth Leadership Program on Free Expression is a twelve-day International Free Expression Institute funded and provided by the Freedom Forum and the Close Up Foundation, with which the grantee organization must partner on this program.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Program Information

Overview: The Youth Leadership Program on Free Expression enables youth (aged 15-18 with at least one year of high school remaining following the program), and adult educators/community leaders to participate in an intensive, thematic, month-long multi-regional project in the United States that will educate highly motivated international students and adults about the value of first amendment ideals and the importance of a free press and free expression in the development of democracies throughout the world. The 50 participants will be recruited from 3-5 countries in at least three of the following world regions: Central and South America, sub-Saharan Africa, Middle East and North Africa, South and Central Asia, the Caucasus, and Southeast Asia. Participants will travel in two groups of 25 to allow for more personalized programming. Participants will be engaged in a variety of activities such as workshops, community and/or school-based programs, cultural activities, seminars and other activities designed to achieve the project's stated goals and objectives. Opportunities for participants to interact with American youth and adult educators and community leaders will be included as much as possible.

The core of the Youth Leadership Program on Free Expression is the twelve-day International Free Expression Institute provided by the Freedom Forum and the Close Up Foundation, with which the grantee organization must partner on this program. This Institute is designed to teach the principles inherent in the first amendment of the U.S. Constitution, their values in society, and their application in a variety of settings. The Institute will take place in the Washington, DC area. Applicants must contact Tim Hair, the point person for the Institute, (phone: (703) 706-3491 or e-mail: hairt@closeup.org) for additional information.

The goals of the Youth Leadership Program on Free Expression are:

(1) To create a cadre of active and informed youth in emerging civil societies who are capable of making meaningful contributions to democratic processes. These young people will understand and embrace the value of first amendment ideals, will affect public debate and be civically engaged, and will be part of an international network of youth activists;

(2) To foster relationships among youth from different ethnic, religious, and national groups; and

(3) To promote mutual understanding between the United States and people of other countries.

Applicants should identify their own specific objectives and measurable outcomes based on these program goals and the project specifications provided in this solicitation.

Applicants must demonstrate their capacity for conducting programs of this nature, focusing on three areas of competency: (1) Provision of programs aimed at achieving the goals and themes outlined in this document; (2) age-appropriate programming for youth; and (3) previous experience in working with the proposed countries.

Applicants need to have the necessary capacity in the geographic areas from which participants will be recruited or a partner institution with the requisite capacity to recruit and select participants for the program and to provide post-exchange follow-on activities.

Program Content: The Youth Leadership Program on Free Expression has two key components: (1) The twelve-day International Free Expression Institute in Washington, DC, provided and funded by the Freedom Forum and the Close Up Foundation followed by (2) a homestay and practicum in another locale to be organized by the grantee organization.

A team of Freedom Forum and Close Up educational specialists will develop an experiential and interactive curriculum for content-based seminars and workshops upon which the International Free Expression Institute in Washington, DC will be based. Participants will have a variety of experiential learning components including seminars and workshops conducted by First Amendment scholars, interactive discussions with Washington press corps, Members of Congress and policy-makers and onsite visits to newsrooms, Capitol Hill and think tanks. The adults will have some separate sessions designed specifically for them as educators. Program activities may include overnight visits to Williamsburg or Philadelphia. The Close Up Foundation will provide administration, logistics, and curriculum development, and will be responsible for monitoring the students and organizing the “DC as a classroom” sessions during the Institute. The Mission Statement for the International Freedom Expression Institute provided by the Freedom Forum and the Close Up Foundation and descriptions of these organizations follow.

“The Freedom Forum's Diversity Institute is expanding its mission to educate current and future international leaders about the central role of free expression in a democratic society. The fundamentals of free expression are found in the First Amendment to the U.S. Constitution: freedom of religion, speech, press, assembly and petition. These freedoms are not “American” rights; they are universal human rights as set forth in the Universal Declaration of Rights. They are not privileges granted by governments, but rather fundamental liberties founded on the inviolable dignity of the person. The Diversity Institute will teach the importance of free and diverse expression through a curriculum that encourages open and robust dialogue among people of many nationalities, cultures, races, religions and ethnicities.

The curriculum will focus on the five freedoms as humanity's “first freedoms,” the means by which people throughout the world seek to follow the dictates of conscience, speak out for justice, disseminate knowledge and organize for change. Through the lessons of history in the United States and other nations, the curriculum explores the advances and setbacks in the ongoing struggle to secure these basic rights.

Special emphasis is placed on learning about the role of a free press in upholding all other freedoms by ensuring a marketplace of ideas free from government control. In emerging democracies throughout the world—as in the American experience—these five rights have been both the means for winning freedom and the essential framework for ordering freedom once freedom is won.

Graduates of the program will understand that universal rights are accompanied by a universal duty to exercise those rights in ways that advance the cause of democratic freedom for all people.”

Program Partners

The Close Up Foundation

The Close Up Foundation is the nation's largest nonprofit (501(c)(3)), nonpartisan citizenship education organization. Since its founding in 1970, Close Up has worked to promote responsible and informed participation in the democratic process through a variety of educational programs. Each year, more than 20,000 students, teachers, and other adults take part in Close Up's programs in Washington, DC. Since the inception of its Washington-based programs in 1971, the Close Up Foundation has welcomed nearly 650,000 students, educators, and other adults to the nation's capital. (http://www.closeup.org/).

The Freedom Forum

The Freedom Forum is a non-partisan foundation dedicated to free press, free speech and free spirit. The Freedom Forum's Diversity Institute is a school with a mission to teach about diversity of thought, expression and free press. The Diversity Institute's International Free Expression Institute teaches current and future international leaders about the basics of free expression in a democratic society. (http://www.freedomforum.org/).

The second component, designed by the grant applicant, will allow the participants to apply what they have learned in the Institute by visiting a community elsewhere in the United States, either as one large group or divided into sub-groups. The students should work with local youth in the practical implementation of the first amendment ideals and ethics by working with newspapers, radio, or television stations based in schools, or communities and oriented toward youth, such as First Amendment Schools (http://www.firstamendmentschools.org/). The participants may also take part in youth activist groups. Other possibilities include the staging of a mock trial or a debate on an issue involving free speech or freedom of religion. This segment of the program should include homestays with local families. The Freedom Forum has offered to provide consultation on possible host communities based on its knowledge of schools with strong journalism programs.

The program should be designed to capitalize on group learning opportunities, providing participants numerous occasions to share their experiences and learn more about each other's cultures, allowing them to gain a better appreciation of each other and enabling them to develop their teambuilding skills. The program should also provide ample opportunities for the participants to interact with their American peers. Participants are expected to apply their newfound knowledge and skills in developing a project plan for implementation upon their return home. At the end of the program, the participants should receive a certificate of completion.

Guidelines

In pursuit of the goals outlined above, the program will include the following:

• Recruitment and selection of youth and adult educators/community leaders from the appropriate geographic regions (see below). Facilitating their travel to the U.S.

• Designing and implementing a pre-departure orientation program. Participants will have a pre-program orientation that emphasizes the goals of the program and prepares them for the activities ahead. The orientation should include a general overview of the cultures and countries participating in this program, and provide logistical and travel information. An arrival orientation should be conducted in partnership with Freedom Forum and Close Up representatives the day before the Institute begins as well as a review session the day following the Institute's conclusion. An online tool for communication such as a listserv, bulletin board, blog, or Web site can serve as a source of information and a venue for participants to interact with each other prior to, during, and after their exchange. Another possibility for communication is via the Department of State's Alumni Web site (https://alumni.state.gov/).

• Working in cooperation with the Freedom Forum and Close Up Foundation, designing and planning of activities that provide a substantive program on first amendment ideals with an emphasis on freedom of expression. Some activities should be school and/or community-based, as feasible, and the projects should involve as much interaction with American peers as possible. A community service element should also be included.

• Providing logistical arrangements, homestay arrangements (as appropriate) and/or other accommodation, provisions for religious observance, disbursement of stipends/per diem, local travel, and travel between sites.

• Facilitating substantive activities that are relevant to first amendment ideals while students are living with host families in U.S. communities.

• Designing and implementing a host family/host community orientation regarding cultural background of participants, program goals and other aspects related to the participants' homestay experience.

• Providing and/or supporting follow-on activities in the participants' geographic areas designed to reinforce the ideas, values and skills imparted during the U.S. exchange.

Recruitment and Selection: The grant recipient will manage the recruitment and competitive merit-based selection of participants in consultation with the Public Affairs Sections (PAS) at the U.S. Embassies overseas. Organizers must strive for the broadest regional and ethnic diversity within each country. The Department of State reserves final approval of all selected delegations.

Participants: Each of the two delegations will be composed of 25 international participants—students (aged 15-18) and educators and/or community leaders who work with youth and who have a strong interest in learning more about the role of a free press in a democracy and the values and principles of free expression. Participants will be recruited from 3-5 countries (minimum of four students and one adult participant per country) in at least three of the following world regions: Central and South America, sub-Saharan Africa, Middle East and North Africa, South and Central Asia, the Caucasus, and Southeast Asia. In the spirit of diversity, ECA wishes to allow applicant organizations to propose countries in which they have strong partners. Applicants may present the same mix of countries for each delegation or the mix may vary.

Participants should have a strong demonstrated interest in free expression, such as journalism, communications, advocacy, debate, or civic participation. English proficiency for international participants is required. It is desirable that 2-3 participants attend the same school or live in the same community so that they can support each other upon return.

The adult participants should not only escort the students to the U.S., but also serve as adult advocates, ensuring the students take back and apply their newfound knowledge and supporting them in implementing their project ideas when they return. They should participate in program activities together with the youth.

U.S. Projects: The program will consist of two exchange delegations consisting of 25 participants each. The itineraries for the two exchange delegations may be identical or may vary. The International Free Expression Institute will be conducted in the Washington, DC metro area. The remainder of the program should take place in other sites in the United States that demonstrate its geographic diversity. The program should focus primarily on interactive activities, practical experiences, and other hands-on opportunities to learn about the fundamentals of a civil society as related to first amendment ideals. A community service element will expose participants to the important role volunteerism plays in American society. Cultural and recreational activities will balance the schedule. Participants should be provided opportunities to attend informal and formal gatherings that allow for student presentations about their countries and cultures to further the goal of promoting mutual understanding. Discussion groups or facilitated conversational exchanges with their American peers are encouraged.

Post-exchange Follow-on Activities: Follow-on programming for alumni is essential. Applicants should present creative and effective ways to address the program theme, for both program participants and their peers, as a means to amplify the program impact. The U.S. program will offer training and suggested activities to help prepare the participants for follow-on activities upon their return home. This will include training in project planning, the development of action plans and presentations, and other mechanisms that will enable alumni to effectively share and model their newly acquired knowledge and skills with their peers, schools, and communities. Plans for the participants' projects to reach the broadest and widest audiences are highly encouraged. Alumni programming in the form of seminars, newsletters, and listservs (where feasible) serves to maximize and extend the benefit of the participants' program in the United States. Examples include establishing a school or community based newspaper; advocating for a youth column in an existing publication; conducting a conference; offering small alumni grants for relevant projects; or creating web blogs, podcasts, or Web sites for teen peers about what participants learned. A strategy for continued communication and collaboration among the participants should be incorporated into the program.

Alumni tracking is crucial for the evaluation of the program and for the implementation of follow-on programs. All alumni contact information gathered by the grant recipients on behalf of Youth Leadership Programs must be made available to the Department of State.

II. Award Information

Type of Award: Grant Agreement.

Fiscal Year Funds: 2006.

Approximate Total Funding: $300,000.

Approximate Number of Awards: One or two. The Bureau reserves the right to consider supporting one grant for the administration of both projects or two separate grants for each project based on the proposals' responsiveness to the solicitation.

Approximate Average Award: One award at approximately $300,000 or two awards at approximately $150,000.

Anticipated Award Date: Grant period runs from Summer 2006 to Summer or Fall 2007, with the two U.S. projects taking place in Fall 2006 and Spring 2007. Grants should begin on or about July 31, 2006.

Anticipated Project Completion Date: Summer 2007. Pending successful implementation of this program and the availability of funds in subsequent fiscal years, it is ECA's intent to renew this grant for two additional fiscal years, before openly competing it again.

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

The Freedom Forum and Close Up Foundation will plan, implement, and cost share the participants' tuition for the twelve-day Institute. This includes all administrative and participant expenses related to the twelve-day Institute: Curriculum development, instructional materials, speakers' fees, ground transportation for site visits, and room and board while in Washington, DC. This cost-share is outside of the funding amount to be awarded to the grantee organization.

When cost sharing is offered by the grantee organization, it is understood and agreed that the applicant must provide the amount of cost sharing as stipulated in its proposal and later included in an approved grant agreement. Cost sharing may be in the form of allowable direct or indirect costs. For accountability, you must maintain written records to support all costs which are claimed as your contribution, as well as costs to be paid by the Federal Government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

Bureau grant guidelines require that organizations with less than four years experience in conducting international exchanges be limited to $60,000 in Bureau funding. ECA anticipates awarding one or two grants, in amounts that exceed this threshold to support program and administrative costs required to implement this exchange program. Therefore, organizations with less than four years experience in conducting international exchanges are ineligible to apply under this competition. The Bureau encourages applicants to provide maximum levels of cost sharing and funding in support of its programs.

IV. Application and Submission Information

Note: Please read the complete Federal Register announcement before sending inquiries or submitting proposals. Once the RFGP deadline has passed, Bureau staff may not discuss this competition with applicants until the proposal review process has been completed.

IV.1. Contact Information To Request an Application Package

Please contact the Youth Programs Division of the Office of Citizen Exchanges, ECA/PE/C/PY, Room 568, U.S. Department of State, SA-44, 301 4th Street, SW., Washington, DC 20547, phone: (202) 203-7517 and fax: (202) 203-7527, e-mail: PetersML@state.gov to request a Solicitation Package. Please refer to the Funding Opportunity Number ECA/PE/C/PY-06-22 located at the top of this announcement when making your request and on all other inquiries and correspondence.

The Solicitation Package contains the Proposal Submission Instruction (PSI) document that consists of required application forms, and standard guidelines for proposal preparation.

IV.2. To Download a Solicitation Package Via Internet

The entire Solicitation Package includes the PSI and this RFGP, and may be downloaded from the Bureau's Web site at http://exchanges.state.gov/education/rfgps/menu.htm. Please read all information before downloading.

IV.3. Content and Form of Submission

Applicants must follow all instructions in the Solicitation Package. The application should be sent per the instructions under IV.3f. “Submission Dates and Times section” below.

IV.3a. You Are Required To Have a Dun and Bradstreet Data Universal Numbering System (DUNS) Number To Apply for a Grant or Cooperative Agreement From the U.S. Government

This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All Proposals Must Contain an Executive Summary, Proposal Narrative and Budget

Please refer to the Solicitation Package. It contains the mandatory Proposal Submission Instructions (PSI) document for additional formatting and technical requirements.

IV.3c. You Must Have Nonprofit Status With the IRS at the Time of Application

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please Take Into Consideration the Following Information When Preparing Your Proposal Narrative

The applicant should submit a complete proposal describing the program in a convincing and comprehensive manner. The proposal should respond to the criteria set forth in the solicitation and other guidelines as clearly as possible.

The proposal should address succinctly, but completely, the elements described below and must follow all format requirements. The proposal should include the following items:

TAB A—SF-424 “Application for Federal Assistance Cover Sheet''

TAB B—Executive Summary

In one double-spaced page, provide the following information about the project:

1. Name of applicant organization and participating institutions.

2. Participants.

3. Beginning and ending dates of the program.

4. Nature of activity and venues.

TAB C—Narrative

Within 20 double-spaced, single sided pages, provide a detailed description of the project addressing the areas listed below. In the narrative, applicants should not only describe major program activities but also explain and justify their programmatic choices.

1. Vision

Describe the project objectives and the desired outcomes, i.e., the knowledge, skills, and/or attitudinal changes that the participants will acquire. Provide rationale for country and U.S. community selection.

2. Participating Organizations

Identify any partner organizations for the program, their roles, and the applicant's reasons for including them.

3. Recruitment

Describe how the applicant will advertise the program in targeted regions and coordinate the receipt of written applications.

4. Screening and Selection

Describe in detail both the process and the criteria by which finalists will be selected. Members of the selection committee should be identified (at least by position). Provide a timetable and the specific procedures by which the applicant will notify candidates of their selection or non-selection.

5. Project Activities

Describe in sufficient detail the major components of the two U.S. projects, including project planning, orientations, educational activities, cultural activities, meetings, site visits, community service, and the closing session. Provide a tentative schedule/itinerary of the projects, supplying a more detailed outline of daily activities in an appendix.

6. Travel, Housing, and Other Logistics

Detail how the applicant will arrange international travel (in compliance with the Fly America Act); domestic travel; homestay, dormitory or other housing arrangements; ground transportation; stipend disbursement; and any other relevant administrative matters.

7. Post-Exchange Follow-on Activities

Describe a plan to provide follow-on activities to the U.S.-based projects, including both ECA-funded and privately funded activities.

8. Program Monitoring and Evaluation

The progress of the grant should be monitored closely and ECA/PAS must be kept informed of activities. In the submitted proposal, applicants should include a plan describing how success in meeting the stated goals of the program will be measured and reported. ECA recommends that the proposal include a draft survey questionnaire or other technique.

9. Diversity

Explain how the program managers will be pro-active in supporting diversity in participant selection and in program content, demonstrating how diversity can contribute to a vibrant civil society. Diversity should be defined broadly and should include geographic, urban/rural, ethnic, racial, socio-economic, and religious diversity.

10. Institutional Capacity and Project Management

Outline the applicant organization's capacity for doing projects of this nature, focusing on three areas of competency: provision of educational and thematic programs, age-appropriate programming for youth, and work in the specific countries for which you are applying. Describe the program staffing (individuals and responsibilities), qualifications, structure, and resources.

11. Work Plan/Schedule

Outline the phases of the project planning and implementation for the entire grant period.

TAB D—Budget Submission

See section IV.3e.

TAB E

Letters of endorsement from partner organizations and/or sub-contractors. Applicants must include a copy of its Memo of Understanding (a draft is acceptable at this stage of the application) with the Close Up Foundation and the Freedom Forum that outlines the organizations' responsibilities and includes cost share contributions that will be made toward the program.

Resumes of all program staff should be included in the submission. No one resume should exceed two pages. Attachments/appendices (please limit).

TAB F

Copy of IRS notification of current tax-exempt status SF-424B, “Assurances-Nonconstruction Programs''. Other attachments, if applicable.

IV.3d.1. Adherence To All Regulations Governing The J Visa. The Office of Citizen Exchanges of the Bureau of Educational and Cultural Affairs is the official program sponsor of the exchange program covered by this RFGP, and an employee of the Bureau will be the “Responsible Officer” for the program under the terms of 22 CFR 62, which covers the administration of the Exchange Visitor Program (J visa program). Under the terms of 22 CFR 62, organizations receiving grants under this RFGP will be third parties “cooperating with or assisting the sponsor in the conduct of the sponsor's program.” The actions of grantee program organizations shall be “imputed to the sponsor in evaluating the sponsor's compliance with” 22 CFR 62. Therefore, the Bureau expects that any organization receiving a grant under this competition will render all assistance necessary to enable the Bureau to fully comply with 22 CFR 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR 62. If your organization has experience as a designated Exchange Visitor Program Sponsor, the applicant should discuss their record of compliance with 22 CFR 62 et seq., including the oversight of their Responsible Officers and Alternate Responsible Officers, screening and selection of program participants, provision of pre-arrival information and orientation to participants, monitoring of participants, proper maintenance and security of forms, recordkeeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, FAX: (202) 453-8640.

IV.3d.2. Diversity, Freedom and Democracy Guidelines.Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation. Proposals must include a plan to monitor and evaluate the program's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your program's objectives, your anticipated program outcomes, and how and when you intend to measure these outcomes (performance indicators). The more that outcomes are “smart” (specific, measurable, attainable, results-oriented, and placed in a reasonable time frame), the easier it will be to conduct the evaluation. You should also show how your program objectives link to the goals of the program described in this RFGP.

Your monitoring and evaluation plan should clearly distinguish between program outputs and outcomes. Outputs are products and services delivered, often stated as an amount. Output information is important to show the scope or size of program activities, but it cannot substitute for information about progress towards outcomes or the results achieved. Examples of outputs include the number of people trained or the number of seminars conducted. Outcomes, in contrast, represent specific results a program is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Please Take the Following Information Into Consideration When Preparing Your Budget

IV.3e.1. Please submit a comprehensive line item budget, as stated in the Proposal Submission Instructions. The available funding may be used to support the program and administrative costs necessary to implement the program as described in this solicitation. An explanatory budget narrative must also be included. For clarification, applicants may provide separate sub-budgets for each program component, phase, location, or activity.

IV.3e.2. Suggested program costs include, but are not limited to, the following:

• Staff travel.

• Application and educational materials.

• Participant travel (international, domestic, local ground transportation from/to airports and during non-Institute program period as necessary).

• Orientations.

• Cultural activities.

• Meeting costs.

• Post-exchange follow-on activities.

• Evaluation.

• Stipends or allowances.

• Other justifiable expenses directly related to supporting program activities.

The Freedom Forum and Close Up Foundation will cost share the participants' tuition for the twelve-day Institute in Washington, DC. This includes curriculum development, instructional materials, speakers' fees, ground transportation for site visits, and room and board. Therefore, the budget should not include any expenses for these twelve days of programming.

Significant cost sharing is expected and will enhance the proposal. Homestays are not allowed as a grant-funded or cost-share item. While there is no rigid ratio of administrative to program costs, the Bureau urges applicants to keep administrative costs as low and reasonable as possible. Proposals should show strong administrative cost sharing contributions from the applicant, the in-country partner, and other sources.

Maximum limits on grant funding are as follows: Books and educational materials allowance—$100 per participant; Conference room rental costs—$250 per day per room; Consultant fees and honoraria—$250/day; Cultural allowance—$150 per participant; Per diem-standard government rates; Working meals—one per project; Evaluation costs—2% to 5% of the grant. Organizations are encouraged to cost-share any rates that exceed these amounts.

The Bureau reserves the right to reduce, revise, or increase proposal budgets in accordance with the needs of the program and the availability of funds.

Please note that there are no fees for the J-1 visas that foreign participants will use to enter the United States; there may be visa fees for the U.S. travelers. Applicants should budget for applicants to travel to the nearest U.S. embassy or consulate for visa interviews.

Exchange participants will be enrolled in the Bureau's Accident and Sickness Program for Exchanges (ASPE). Applicants need not include these insurance costs in their budgets.

IV.3f. Application Deadline and Methods of Submission

Application Deadline Date: Monday, May 8, 2006.

Reference Number: ECA/PE/C/PY-06-22.

Methods of Submission: Applications may be submitted in one of two ways:

(1) In hard copy, via a nationally recognized overnight delivery service (i.e., DHL, Federal Express, UPS, Airborne Express, or U.S. Postal Service Express Overnight Mail, etc.), or

(2) Electronically through http://www.grants.gov.

Along with the Program Title, all applicants must enter the above Reference Number in Box 11 on the SF-424 contained in the mandatory Proposal Submission Instructions (PSI) of the solicitation document.

IV.3f.1. Submitting Printed Applications. Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

Applicants must follow all instructions in the Solicitation Package.

The original and eight copies of the application should be sent to: U.S. Department of State, SA-44, Bureau of Educational and Cultural Affairs, Reference Number: ECA/PE/C/PY-06-22, Program Management, ECA/EX/PM, Room 534, 301 4th Street, SW., Washington, DC 20547.

IV.3f.2. Submitting Electronic Applications. Applicants have the option of submitting proposals electronically through Grants.gov (http://www.grants.gov). Complete solicitation packages are available at Grants.gov in the “Find” portion of the system. Please follow the instructions available in the “Get Started” portion of the site (http://www.grants.gov/GetStarted).

Applicants have until midnight (12 a.m.) of the closing date to ensure that their entire applications have been uploaded to the grants.gov site. Applications uploaded to the site after midnight of the application deadline date will be automatically rejected by the grants.gov system, and will be technically ineligible.

Applicants will receive a confirmation e-mail from grants.gov upon the successful submission of an application. ECA will not notify you upon receipt of electronic applications.

IV.3g. Intergovernmental Review of Applications

Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards grants agreements resides with the Bureau's Grants Officer.

Review Criteria

Technically eligible applications will be competitively reviewed according to the criteria stated below. These criteria are not rank ordered and all carry equal weight in the proposal evaluation:

1. Quality of the program idea: The proposed program should be well developed, responding to the design outlined in the solicitation, and demonstrating originality. It should be clearly and accurately written, substantive, and with sufficient detail. Proposals should exhibit originality, substance, precision, and relevance to the Bureau's mission.

2. Program planning and ability to achieve program objectives: A detailed agenda and work plan should clearly demonstrate how project objectives will be achieved. The agenda and plan should adhere to the program overview and guidelines described above. The substance of workshops, seminars, presentations, school-based activities, and/or site visits should be described in detail. Objectives should be reasonable, feasible, and flexible. The proposal should clearly demonstrate how the institution will meet the program's objectives and plan.

3. Support of diversity: The proposal should demonstrate the recipient's commitment to promoting the awareness and understanding of diversity in program content. Applicants should demonstrate readiness to accommodate participants with physical disabilities.

4. Institutional capacity and track record: Proposed personnel and institutional resources should be adequate and appropriate to achieve the program goals. The proposal should demonstrate an institutional record, including responsible fiscal management and full compliance with all reporting requirements for past Bureau grants as determined by the Bureau's Office of Contracts. The Bureau will consider the past performance of prior recipients and the demonstrated potential of new applicants.

5. Cross-cultural sensitivity and area expertise: Applicants must demonstrate their understanding of the area in which they propose to work and should demonstrate sensitivity to participants' values, customs, and life experiences in all aspects of the program.

6. Post-exchange follow-on activities: Proposals should provide a plan for Bureau- and grantee-supported follow-on activities that insure this exchange is not an isolated event.

7. Project evaluation: The proposal should include a plan to evaluate the activity's success, both as the activities unfold and at the end of the program. The proposal should include a draft survey questionnaire or other technique plus description of a methodology to use to link outcomes to original project objectives.

8. Cost-effectiveness and cost sharing: The applicant should demonstrate efficient use of Bureau funds. The overhead and administrative components of the proposal, including salaries and honoraria, should be kept as low as possible. All other items should be necessary and appropriate. The proposal should maximize cost-sharing through other private sector support as well as institutional direct funding contributions, which demonstrates institutional and community commitment.

VI. Award Administration Information

VI.1a. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants;, http://exchanges.state.gov/education/grantsdiv/terms.htm#articleI.

VI.3. Reporting Requirements

Grantee organizations must provide ECA with a hard copy original plus one copy of the following reports:

(1) A final program and financial report no more than 90 days after the expiration of the award; and

(2) Quarterly program and financial reports that should include how you are meeting the goals and objectives of the program and plans for next steps.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Program Data Requirements

Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three work days prior to the official opening of the activity.

VII. Agency Contacts

For questions about this announcement, contact: Michele Peters, Program Officer, Office of Citizen Exchanges, ECA/PE/C/PY, Room 568, Reference Number: ECA/PE/C/PY-06-22, U.S. Department of State, SA-44, 301 4th Street, SW., Washington, DC 20547, phone: (202) 203-7517 and fax: (202) 203-7527, e-mail: PetersML@state.gov.

All correspondence with the Bureau concerning this RFGP should reference the above title and number ECA/PE/C/PY-06-22.

Please read the complete Federal Register announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: March 10, 2006.
C. Miller Crouch,
Principal Deputy Assistant Secretary, Bureau of Educational and Cultural Affairs, Department of State.

[FR Doc. 06-2561 Filed 3-15-06; 8:45 am]

BILLING CODE 4710-05-P